DEPARTMENT OF AGRICULTURE

Office of the Secretary

7 CFR Part 2

Revision of Delegations of Authority

AGENCY: Office of the Secretary.

ACTION: Final rule.

SUMMARY: This document delegates authority from the Secretary of Agriculture to the Director, Homeland Security Staff (Director), designating the Director as the Department official who is responsible for providing personal security protection to the Secretary and the Deputy Secretary. Therefore, this action revises the delegation of authority from the Secretary to the Inspector General to limit the involvement of the Inspector General with the personal security of the Secretary and the Deputy Secretary. This document also delegates authority from the Secretary to the Under Secretary for Natural Resources and Environment (NRE) and to the Chief, Forest Service, to assist the Director in providing personal security protection to the Secretary and the Deputy Secretary in the National Forest System (NFS).

DATES: Effective July 6, 2007.

FOR FURTHER INFORMATION CONTACT: Sheryl K. Maddux, Acting Director, Homeland Security Office, USDA, (202) 720-7654.

SUPPLEMENTARY INFORMATION: This action concerns delegations of authority regarding the personal security function as it relates to the Secretary and the Deputy Secretary. By way of reference, the Secretary and the Deputy Secretary are included in a protected class of officials under 18 U.S.C. 351, which criminalizes violent crimes committed against the head of a department or the second ranking official in such department. Through this action, the Secretary delegates authority to the Director to provide for the personal security for the Secretary and the Deputy Secretary. In addition, this action revises the delegation of authority from the Secretary to the inspector General to provide that the Inspector General retains the authority to assist the Director in providing for the personal security for the Secretary and the Deputy Secretary, at the request of the Director. In essence, this action transfers the primary responsibility of providing for the personal security for the Secretary and the Deputy Secretary from the Inspector General to the Director.

This action also delegates authority from the Secretary to the Under Secretary for NRE and to the Chief, Forest Service, to assist the Director in performing the personal security function in the NFS. At the request of the Director, the Under Secretary for NRE and the Chief, Forest Service, have delegated authority to designate Forest Service law enforcement personnel to assist the Director in providing for the personal security for the Secretary and the Deputy Secretary in the NFS.

This rule relates to internal agency management. Therefore, pursuant to 5 U.S.C. 553, notice of proposed rule making and opportunity for comment are not required. This rule may be made effective less than 30 days after publication in the Federal Register. Further, this rule is exempt form the provisions of Executive Order 12988 and Executive Orders 12866, amended by Executive Order 13258, because it relates to internal agency management. In addition, this action is exempt from the provisions of the Regulatory Flexibility Act (5 U.S.C. 601 et seq.) because it is not a rule as defined by that statute. Finally, this action does not require review by Congress because it is not a rule as defined in 5 U.S.C. 804.

List of Subjects in 7 CFR Part 2

Authority delegations (Government agencies).

Accordingly, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1), 5 U.S.C. 301; Reorganization Plan No. 2 of 1953, 3 CFR, 1949-1953 Comp., p. 1024.

Subpart D—Delegation of Authority to Other General Officers and Agency Heads

2. Amend § 2.20 to add paragraph (a)(2)(xl) to read as follows:

§ 2.20 Under Secretary for Natural Resources and Environment.

(a) * * *

(2) * * *

(xl) At the request of the Director, Homeland Security Staff (Director), designate law enforcement personnel of the Forest Service to assist the Director in providing for the personal security for the Secretary and the Deputy Secretary in the National Forest System.

3. Amend § 2.32 to add paragraph (a)(1)(vii) to read as follows:

§ 2.32 Director, Homeland Security Staff.

(a) * * *

(1) * * *

(vii) Provide for the personal security for the Secretary and the Deputy Secretary.

* * * * *

4. Amend § 2.33 to revise paragraph (a)(2) to read as follows:

§ 2.33 Inspector General.

* * * * *

(2) At the request of the Director, Homeland Security Staff (Director), determine the availability of law enforcement personnel of the Office of Inspector General to assist the Director in providing for the personal security for the Secretary and the Deputy Secretary.

* * * * *

Subpart J—Delegations of Authority by the Under Secretary for Natural Resources and Environment

5. Amend § 2.60 to add paragraph (a)(49) to read as follows:

§ 2.60 Chief, Forest Service.

(a) * * *

(49) At the request of the Director, Homeland Security Staff (Director), designate law enforcement personnel of the Forest Service to assist the Director in providing for the personal security for the Secretary and the Deputy Secretary in the National Forest System.

* * * * *

Dated: June 29, 2007.
Mike Johanns,
Secretary of Agriculture.

[FR Doc. 07-3281 Filed 7-5-07; 8:45 am]

BILLING CODE 3410-01-M